DEPARTMENT OF TRANSPORTATION

Surface Transportation Board

[STB Ex Parte 680 (Sub-No. 1)]

Supplemental Report to the U.S. Surface Transportation Board on Capacity and Infrastructure Investment

AGENCY: Surface Transportation Board, DOT.

ACTION: Notice.

SUMMARY: The Surface Transportation Board seeks written public comments on the independent study prepared by Christensen Associates, Inc., entitled Supplemental Report to the U.S. Surface Transportation Board on Capacity and Infrastructure Investment, released on April 8, 2009 (Report). This report supplements an earlier report by Christensen Associates, released in November 2008, A Study of Competition in the U.S. Freight Railroad Industry and Analysis of Proposals That Might Enhance Competition.

DATES: Comments are due on or before May 8, 2009. Replies to comments are due by May 28, 2009.

ADDRESSES: Comments and replies may be submitted either via the Board's e-filing format or in traditional paper format. Any person using e-filing should attach a document and otherwise comply with the instructions at the E-FILING link on the Board's Web site at http://www.stb.dot.gov. Any person submitting a filing in the traditional paper format should send an original and 10 copies referring to STB Ex Parte No. 680 (Sub-No. 1) to: Surface Transportation Board, 395 E Street, SW., Washington, DC 20423-0001.

FOR FURTHER INFORMATION CONTACT: Timothy Strafford, (202) 245-0356. [Assistance for the hearing impaired is available through the Federal Information Relay Service (FIRS) at: (800) 877-8339.]

SUPPLEMENTARY INFORMATION: In September 2007, the Board awarded a contract to Christensen Associates to conduct an independent study that provides a comprehensive analysis of a wide range of issues including competition, capacity, and the interplay between the two. After the study was released, the Board held a public meeting on November 6, 2008, with Christensen Associates to discuss it.

In August 2008, to supplement this study, the Board called for an analysis of long-term forecasts of freight rail demand, particularly the U.S. Department of Transportation's Freight Analysis Framework (FAF). The Board requested a review of FAF and augmentation of FAF to permit greater incentive-based responses by economic agents and to test the sensitivity of FAF to key inputs, such as fuel prices and rates.

The Report compares the FAF commodity flow forecasts to other macroeconomic and commodity-specific forecasts to develop alternative forecast scenarios of future freight rail volumes. The Report also analyzes the 2007 Cambridge Systematics study that used the FAF commodity flow forecasts to estimate the amount of infrastructure investment needed to meet the projected demand for rail service through 2035. The Report further discusses the role of public involvement in railroad infrastructure investment.

The Board has made this supplemental report available to the public via its Web site, http://www.stb.dot.gov, and now seeks public comments and replies from all interested persons.

This action will not significantly affect either the quality of the human environment or the conservation of energy resources.

Decided: April 8, 2009.
By the Board, Anne K. Quinlan, Acting Secretary.
Jeffrey Herzig,
Clearance Clerk.

[FR Doc. E9-8317 Filed 4-10-09; 8:45 am]

BILLING CODE 4915-01-P